DEPARTMENT OF TRANSPORTATION

Federal Highway Administration

[FHWA Docket No. FHWA-05-22706]

Motor Vehicle Registration and Licensed Driver Information

AGENCY: Federal Highway Administration (FHWA), DOT.

ACTION: Notice.

SUMMARY: On January 6, 2006, the FHWA published a notice in the Federal Register at 71 FR 969 to solicit public comments on the quality, timeliness, comprehensiveness, and other characteristics of data collected on motor vehicle registration and licensed driver information. Based on public comments received, the FHWA has determined to make a change to the driver's license data definition for teenage drivers, to eliminate the collection of information on disqualified commercial drivers licenses, and to develop enhanced software to receive and process motor vehicle registration and licensed driver data more efficiently.

FOR FURTHER INFORMATION CONTACT: Mr. Ralph Erickson, Office of Highway Policy Information, (202) 366-9235, or Mr. Wilbert Baccus, Office of Chief Counsel, (202) 366-1396, Federal Highway Administration, 400 Seventh Street, SW., Washington, DC 20590. Office hours are from 7:45 a.m. to 4:15 p.m., ET, Monday through Friday, except Federal holidays.

SUPPLEMENTARY INFORMATION: Electronic Access and Filing: Internet users may access this document, the initial notice, and all comments received by the U.S. DOT Docket Facility by using the Universal Resource Locator (URL) http://dms.dot.gov. It is available 24 hours each day, 365 days each year. Electronic submission and retrieval help and guidelines are available under the help section of the Web site.

An electronic copy of this document may also be downloaded by accessing the Office of the Federal Register's home page at http://www.archives.gov and from the Government Printing Office's Web page at http://www.gpoaccess.gov/nara.

Background: The FHWA collects and publishes motor vehicle registration and licensed driver information obtained from the States and the District of Columbia. This information is collected from State departments of transportation pursuant to 23 CFR 420.105 and is published in Highway Statistics.¹

¹ Highway Statistics is an annual report containing analyzed data on motor fuel, motor vehicles, driver licensing, highway user taxation, State and local highway finance, highway mileage, and other selected data. This report has been published each year since 1945. It is available at the following URL: http://www.fhwa.dot.gov/ohpi/hss.

The information in Highway Statistics plays a key role in the development of Federal highway legislation. The information is used in preparing legislatively required reports to Congress, in evaluating highway safety programs, and, in general, as an aid to highway planning, programming, budgeting, forecasting, and fiscal management. This information is also used extensively in the evaluation of Federal, State, and local highway programs. In recent years, FHWA has implemented several reassessment efforts to assure that Highway Statistics data remains up-to-date and relevant for current purposes.

On January 6, 2006, the FHWA published a notice in the Federal Register at 71 FR 969 to solicit public comments on the quality, timeliness, comprehensiveness, and other characteristics of the driver license data. Based on the public comments received, the FHWA has determined to make a change to the data definition of teenage driver to reflect more accurately the actual number of teens driving, to eliminate the collection of information on disqualified commercial drivers licenses, and to update the software used to collect the motor vehicle registration and licensed driver information from the States.

Actions Taken to Date

Teenage Drivers

In the past, FHWA's definition of a licensed driver has been “[a] person that can drive inclusively between the hours of 5 a.m. and Midnight without another licensed driver in the vehicle.” However, State drivers license laws have changed significantly in recent years, especially in the area of teenage drivers. Now, all 50 States and the District of Columbia have some form of graduated licensing for teenage drivers. Some States prohibit teens from driving unless accompanied by a supervisory driver. Other States prohibit teens from driving during certain hours of the day. And still other States may allow nighttime teenage driving, but only with adult supervision. A full definition of Graduated Driver's License can be found in Section 1313.5(d) in the following National Highway Traffic Safety Administration URL: http://www.nhtsa.dot.gov/nhtsa/whatsup/tea21/GrantMan/HTML/24b_Sec410T21Reg_23CFR1313.html. As such, the past FHWA data definition is very narrow in view of recent State law changes on teen-age drivers.

The Office of Highway Policy Information disseminated a memorandum to FHWA Division Offices on September 6, 2006, revising its instructions for Form-562 State Driver License and Fees, with instructions to forward the material to the State data providers. The revised instructions will also be incorporated into Chapter 4 of A Guide to Reporting Highway Statistics (Guide). Since this change does not create an additional burden for data collection under the Paperwork Reduction Act requirements, the Office of Highway Policy Information will revise the Guide within 3 months of publication of this notice. This revised definition is intended to be more detailed in the types of licenses teen-aged drivers obtain. The new definition reads: Teenage Graduated Drivers Licenses: Graduated licenses are defined as driver licenses that have some restriction placed on the driver to provide basic driving experience under optimal conditions or under the supervision of more experienced drivers, but restrict driving in certain less than optimal conditions, such as driving at night.

The new definition is effective for Highway Statistics—2006. Thus, when preparing Form FHWA-562 (State Drivers Licenses and Fees), data providers should use the new definition for the State's 2006 data, either fiscal year or calendar year. The revised data definition is not a new data requirement; it is a re-definition of already required data.

Disqualified Commercial Drivers Licenses

In addition, FHWA has determined that the data collected on page four of the FHWA Form 562—data concerning the number of Commercial Driver's Licenses disqualified—is no longer necessary. FHWA collected this data for the Federal Motor Carrier Safety Administration, but now that organization collects this data in its business procedures. Hence, it is redundant for FHWA to also collect the data.

Data Quality

The FHWA received many comments regarding overall data quality. FHWA is addressing this concern through improved software to significantly reduce reporting inconsistencies. Under the mandates of E-Government initiatives, the FHWA is developing enhanced software to receive and process motor vehicle registration and licensed driver data more efficiently. The questions asked will remain the same, but the software used to collect the information will ease data submittal and will result in more accurate reporting. This enhanced software, once developed, will enable State data providers to take advantage of more advanced submittal and editing features that can significantly reduce reporting time and errors.

With respect to enhanced software, FHWA is in the process of making software improvements to the features in the following form templates:

• FHWA Form 561—State Motor Vehicle Registrations, Registration Fees and Miscellaneous Receipts;

• FHWA Form 562—State Driver Licenses and Fees;

• FHWA Form 566—State Motor Vehicle Registration and Other Receipts;

• FHWA Form 571—Receipts from State Taxation of Motor Vehicles Operated for Hire and Other Motor Carriers.

The FHWA anticipates that the enhanced software containing these revised form templates will be released and distributed to the States mid-2007, allowing sufficient time for the FHWA to train States in preparation for the 2008 release of Highway Statistics—2007. The FHWA notes that any revisions to the software will result in template and format changes only, and with the exception of the elimination of page four of the FHWA Form 562, will not change the type or quantity of data collected. Revision of the forms will involve some additional paperwork burden on the data providers in transition to the new forms and learning how the new forms function, but will also reduce the paperwork burden over time as the automated forms will take less time to complete. A discussion of the requirements of the Paperwork Reduction Act follows.

Paperwork Reduction Act

Under the Paperwork Reduction Act of 1995 (PRA) (44 U.S.C. 3501, et seq.), Federal agencies must obtain approval from the Office of Management and Budget (OMB) for each collection of information they conduct, sponsor, or require through regulations. The FHWA has determined that this proposal contains collection of information requirements for the purposes of the PRA.

In March 2006, The Office of Management and Budget approved FHWA's Paperwork Reduction Act Submission (OMB Control Number 2125-0032), extending FHWA's authority to collect this data for an additional 3 years (until March 2009). The overall annual burden of collecting driver's license and motor vehicle registration data from the States is estimated to be 4,182 hours. See below for the breakout of the estimated burden hours by Form:

FHWA form | Collection period | Total hours | Assumptions
FHWA-561 | Annual | 1,632 | 32 Hours/50StatesDC/Year.
FHWA-562 | Annual | 714 | 14.0 Hours/50StatesDC/Year.
FHWA-566 | Annual | 1,224 | 24 Hours/50StatesDC/Year.
FHWA-571 | Annual | 612 | 12 Hours/50StatesDC/Year.
Total |  | 4,182

The FHWA is required to periodically submit this proposed collection of information to OMB for review and approval and, accordingly, seeks public comments. Interested parties are invited to send comments regarding any aspect of these information collection requirements, including, but not limited to: (1) Whether the collection of information is necessary for the performance of the functions of the FHWA, including whether the information has practical utility; (2) the accuracy of the estimated burden; (3) ways to enhance the quality, utility, and clarity of the collection of information; and (4) ways to minimize the collection burden without reducing the quality of the information collected.

Issued on: March 30, 2007.
J. Richard Capka,
Federal Highway Administrator.

[FR Doc. E7-6531 Filed 4-6-07; 8:45 am]

BILLING CODE 4910-22-P